DEPARTMENT OF AGRICULTURE

Submission for OMB Review; Comment Request

July 19, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 23, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Evaluation of the Direct Certification with Medicaid for Free and Reduced-Priced (DCM-F/RP) Meals Demonstration.

OMB Control Number: 0584—New.

Summary of Collection: Section 104 of the Child Nutrition and WIC Reauthorization Act of 2004 (Pub. L. 108-265) amended section 9(b) of the Richard B. Russell National School Lunch Act (NSLA) (42 U.S.C. 1758(b)) to require all local educational agencies that participate in the National School Lunch Program and/or the School Breakfast Program to establish a system to directly certify as eligible for free school meals children who are members of households receiving assistance under the Supplemental Nutrition Assistance Program. Section 103 of Public Law 111-296, the Healthy, Hunger-Free Kids Act of 2010, amended the NSLA to authorize the USDA's Food and Nutrition Service (FNS) to conduct and evaluate multiyear demonstration projects beginning in July 2012 in selected States and school districts to test the effectiveness of direct certification using income data available in Medicaid administrative records to determine eligibility for free school meals. In response to these mandates, FNS authorized a demonstration in School Year (SY) 2012-2013 for selected States and districts to directly certify students for free meals using income data available through Medicaid. In SY 2016-2017, FNS initiated a new demonstration where selected States will use income data from Medicaid files to identify students in households eligible to receive reduced-price meals and directly certify them at that level, in addition to directly certifying students for free meals. Through the Evaluation of the Direct Certification with Medicaid for Free and Reduced-Priced (DCM-F/RP) Meals Demonstration, FNS will be able to gather the data needed to evaluate the demonstration.

Need and Use of the Information: This study will gather data from State Child Nutrition Agency, State Medicaid Agency, and other State Agency staffs, from local school district staffs, and from vendors. FNS will use the data to understand how States are implementing the demonstration, identify challenges encountered during the implementation, and examine the demonstration's effectiveness in improving certification and participation outcomes and the implications for Federal reimbursement totals and State administrative costs. The data will also help FNS to identify best practices that will shape future replication and improvement.

Description of Respondents: State, Local, or Tribal Government; Businesses or other for-profit.

Number of Respondents: 203.

Frequency of Responses: Reporting: Quarterly, Semi-Annually, and Annually.

Total Burden Hours: 1,174.

Food and Nutrition Service

Title: Evaluation of the School Meal Data Collection Process.

OMB Control Number: 0584-NEW.

Summary of Collection: FNS is conducting a study, the Evaluation of the School Meal Data Collection Process, to provide a description and evaluation of the methodologies and processes used to collect and report program data for the school meal programs via the FNS-10, FNS-742, and FNS-834 forms. The key research objectives relate to assessing how schools/sites, SFAs, and State agencies handle the following three functions: Collect/aggregate data, process or validate data, and transmit data about the school meal programs. The ultimate objective is to understand the likely sources of error within each of these functions at each reporting level.

Need and Use of the Information: The primary purpose of data collection is to provide a description and evaluation of the methodologies and processes used to collect and report program data via the FNS-10, FNS-742, and FNS-834 forms. FNS objective is to understand the likely sources of error within each of these functions at each reporting level (i.e., school/site to SFA; SFA to State agency; State agency to FNS). Evaluation of the processes and identification of potential sources of error will culminate in a set of recommended practices for improving the process to increase the accuracy of school meal program data.

Description of Respondents: State, Local & Tribal Agencies Government.

Number of Respondents: 298.

Frequency of Responses: Reporting: Annually.

Total Burden Hours: 303.

Food and Nutrition Service

Title: Supplemental Nutrition Assistance Program—Store Applications.

OMB Control Number: 0584-0008.

Summary of Collection: Section 9(a) of the Food and Nutrition Act of 2008 as amended, (7 U.S.C. 2018 et seq.) requires that the Food and Nutrition Service (FNS) provide for the submission of applications for approval by retailers, wholesalers, meal service providers, certain types of group homes, shelters, and state-contracted restaurants that wish to participate in the Supplemental Nutrition Program (SNAP). FNS is responsible for reviewing the application in order to determine whether or not applicants meet eligibility requirements, and make determinations whether to grant or deny authorization to accept and redeem SNAP benefits. FNS will collect information using forms FNS-252, Supplemental Nutrition Assistance Program Application for Store, FNS-252-E, On line Supplemental Nutrition Assistance Program Application for Store, FNS 252-2, Supplemental Nutrition Assistance Program for Meal Service Application, FNS-252-C, Corporate Supplemental Application, and FNS 252-R, Supplemental Nutrition Assistance Program for Stores Reauthorization and FNS-252FE, Supplemental Nutrition Assistance Program Farmer's Market Application.

Need and Use of the Information: FNS will collect information to determine the eligibility of retail food stores, wholesale food concern, and food service organizations applying for authorization to accept and redeem SNAP benefits, to monitor these firms for continued eligibility, to sanction stores for noncompliance with the Act, and for Program management purposes. Without the information on the application or reauthorization application, the consequence to the Federal program is the Agency's reduced ability to effectively monitor accountability for program compliance and to detect fraud and abuse.

Description of Respondents: Business or other for-profit, Not-for-profit, Farms.

Number of Respondents: 132,599.

Frequency of Responses: Reporting: On occasion.

Total Burden Hours: 19,383.

Ruth Brown,
Departmental Information Collection Clearance Officer.

[FR Doc. 2017-15435 Filed 7-21-17; 8:45 am]

BILLING CODE 3410-30-P